DEPARTMENT OF ENERGY

Notice of Availability of Supplemental Environmental Impact Statement for Disposition of Depleted Uranium Oxide Conversion Product Generated From DOE's Inventory of Depleted Uranium Hexafluoride

AGENCY: Office of Environmental Management, U.S. Department of Energy.

ACTION: Notice of availability and public hearings.

SUMMARY: The U.S. Department of Energy (DOE), Office of Environmental Management, announces the availability of the Draft Supplemental Environmental Impact Statement for Disposition of Depleted Uranium Oxide Conversion Product Generated from DOE's Inventory of Depleted Uranium Hexafluoride (Draft SEIS) (DOE/EIS-0359-S1; DOE/EIS-0360-S1). DOE also announces three web-based public hearings to receive comments on the Draft SEIS. The Draft SEIS evaluates the potential environmental impacts associated with the transportation to final disposition of depleted uranium (DU) oxide conversion product from its depleted uranium hexafluoride (DUF6) conversion facilities at the Paducah, Kentucky, and Portsmouth, Ohio, sites at three alternative offsite low-level radioactive waste disposal facilities: The DOE-owned low-level radioactive waste disposal facility at the Nevada National Security Site (NNSS) in Nye County, Nevada; the EnergySolutions low-level radioactive waste disposal facility in Clive, Utah; and the Waste Control Specialists LLC (WCS) low-level radioactive waste disposal facility in Andrews, Texas.

DATES: DOE is inviting public comments on the Draft SEIS starting with the date of publication of this Notice and ending on Monday, February 11, 2019. DOE will host three web-based public hearings to receive comments on the Draft SEIS. Comments submitted during this public comment period will be considered in preparation of the Final SEIS. DOE will consider late comments to the extent practicable. DOE will conduct web-based public comment hearings on the dates indicated below:

• Tuesday, January 22, 2019 from 2:00-4:00 p.m., Web-based

• Wednesday, January 23, 2019 from 4:00-6:00 p.m., Web-based

• Thursday, January 24, 2019, from 7:00-9:00 p.m., Web-based

ADDRESSES: Comments on the Draft SEIS maybe be submitted by any of the following methods:

• Mail: Ms. Jaffet Ferrer-Torres, Document Manager, Office of Environmental Management, Department of Energy, EM-4.22, 1000 Independence Avenue SW, Washington, DC 20585. Note: Comments submitted by U.S. Postal Service may be delayed by mail screening.

• Email: DUF6_NEPA@em.doe.gov.

• WebEx Meeting Room (during scheduled dates see Web-based Public Hearing Information Section):

○ https://doe.webex.com/join/duf6_nepa (Copy and Paste into web browser).

• DU Oxide SEIS Website: http://www.energy.gov/em/disposition-uranium-oxide-conversion-depleted-uranium-hexafluoride.

This NOA, the Environmental Protection Agency NOA, and the Draft SEIS will be posted on the DOE NEPA website at http://energy.gov/nepa. These documents, and additional materials relating to this Draft SEIS, will be also available on the DU Oxide SEIS website at: http://www.energy.gov/em/disposition-uranium-oxide-conversion-depleted-uranium-hexafluoride.

FOR FURTHER INFORMATION CONTACT: For further information about this Draft SEIS, please contact Ms. Jaffet Ferrer-Torres, U.S. Department of Energy at the mailing addresses listed in ADDRESSES. For information on DOE's NEPA process, please contact Mr. William Ostrum, Acting NEPA Compliance Officer, Office of Regulatory Compliance, U.S. Department of Energy, 1000 Independence Avenue SW, Washington, DC 20585; or email at askNEPA@hq.doe.gov.

SUPPLEMENTARY INFORMATION:

The Draft SEIS has been prepared in accordance with Council on Environmental Quality (CEQ) and DOE NEPA implementing regulations at 40 CFR parts 1500-1508 and 10 CFR part 1021, respectively. The Draft SEIS evaluates the potential impacts from three Action Alternatives and the No Action alternative (in accordance with 40 CFR 1502.14). Under the No Action alternative, transportation to and disposal of the conversion product at an offsite low-level waste disposal facility would not occur and refilled cylinders of DU oxide conversion product would remain in storage at DOE's Paducah and Portsmouth sites.

Preferred Alternative

DOE does not have a preferred alternative for the disposal of depleted uranium, but does identify factors that DOE plans to consider in developing a preferred alternative or alternatives for inclusion in the Final SEIS. These factors are discussed in the SUMMARY and chapter four of the Draft SEIS. The preferred alternative could be a combination of two or more alternatives. DOE invites public comments on these factors and any additional factors that should be considered in the selection of a preferred alternative and why.

Next Steps

Following the end of the public comment period, DOE will consider public comments on the Draft SEIS in preparing the Final SEIS. After issuing the Final SEIS, DOE will consider the environmental impacts presented in the Final SEIS, along with other appropriate information in proposing its decision(s) related to the disposal of depleted uranium for an Amended Record of Decision.

Web-based Public Hearing Information

Registration details are included below and are also available on the DOE EM SEIS project website (See ADDRESSES section). If you are joining the web-based public hearing via internet, copy and paste the link below to login to the WebEx Meeting Room, then follow prompts after entering the access code. If you are joining the web-based public hearing via phone, dial the US Toll number below and follow prompts to enter access code. For Global Call in numbers, visit the DU Oxide SEIS website. Documents and the presentation for the public hearing will be made available at http://www.energy.gov/em/disposition-uranium-oxide-conversion-depleted-uranium-hexafluoride, as well as shared during live web-based public hearings. Comments will be accepted during the web-based public hearing, by mail, by email, and through submittal of comment forms on the DU Oxide SEIS website. Persons who wish to speak may sign up to speak before each meeting by submitting a request to DUF6_NEPA@em.doe.gov.

• Join web-based public hearing via WebEx Meeting Room:

○ https://doe.webex.com/join/duf6_nepa_(Copy and Paste into web browser).

• Join web-based public hearing by phone:

○ US Toll: 1-415-527-5035 (For Global Call-In Numbers visit DU Oxide SEIS website).

○ Access code: 988 230 782 #.

Public Reading Rooms and Libraries

Copies of the Draft SEIS are available at http://www.energy.gov/em/disposition-uranium-oxide-conversion-depleted-uranium-hexafluoride. Copies may also be found for public review at the locations listed below:

District of Columbia

U.S. Department of Energy

Freedom of Information Act Electronic Reading Room:

https://www.energy.gov/management/office-management/operational-management/freedom-information-act/reading-room

Nevada

Nevada Site Office, U.S. Department of Energy

Public Reading Room

755 East Flamingo Road, Room 103

Las Vegas, NV 89119, (702) 794-5106.

Amargosa Valley Library

829 E Farm Road

HCR 69 Box 401-T

Amargosa, NV 89020, (775) 372-5340.

Clark County Library

1401 E Flamingo Road

Las Vegas, NV 89119, (702) 507-3400.

Indian Springs Library

715 Gretta Lane

P.O. Box 629

Indian Springs, NV 89018, (702) 879-3845.

Las Vegas Library

833 N Las Vegas Boulevard

Las Vegas, NV 89101, (702) 507-3500.

Pahrump Community Library,

701 S. East Street

Pahrump, NV 89048, (775) 727-5930.

Tonopah Public Library,

167 S Central Street

Tonopah, NV 89049, (775) 482-3374.

Utah

Tooele City Public Library

128 W Vine Street

Tooele, UT 84074, (435) 882-2182.

Texas

Andrews County Library

109 NW 1st Street

Andrews, TX 79714, (432)-523-9819.

Kentucky

U.S. DOE Environmental Information Center

Emerging Technology Center (Room 221)

5100 Alben Barkley Drive

Paducah, KY 42001, (270) 554-3004.

McCracken County Public Library

555 Washington Street

Paducah, KY 42003, (270) 442-2510.

Ohio

U.S. DOE Environmental Information Center

Ohio State Endeavor Center

1862 Shyville Road (Room 207)

Piketon, OH 45661, (740) 289-8898.

Portsmouth Public Library

1220 Gallia Street

Portsmouth, OH 45662, (740) 354-5688.

Scioto County Law Library

602 Seventh Street (Room 306)

Portsmouth, OH 45662, (740) 355-8259.

Individual commentators' names and addresses (including email addresses) received as part of oral statements at the public hearings or comment documents on this Draft SEIS normally are part of the public record. DOE plans to reproduce comment documents in their entirety in the Final SEIS, as appropriate, and to post all comment documents received in their entirety on the DU oxide SEIS website at the close of the public comment period. Any person wishing to have his/her name, address, or other identifying information withheld from the public record of comment documents must state this request prominently at the beginning of any comment document. DOE will honor the request to the extent allowable by law. All submissions from organizations or businesses will be included in the public record and open to public inspection in their entirety.

Issued at Washington, DC on December 20, 2018.
Elizabeth A. Connell,
Acting Associate Principal Deputy Assistant Secretary for Regulatory and Policy Affairs.

[FR Doc. 2018-28249 Filed 12-27-18; 8:45 am]

BILLING CODE 6450-01-P